DEPARTMENT OF AGRICULTURE

Agricultural Marketing Service

7 CFR Chapters I, IX, X, and XI

[Doc. # L&RRS-01-01]

Regulatory Flexibility Act: Plan for Periodic Review of Regulations

AGENCY: Agricultural Marketing Service, USDA.

ACTION: Schedule for review of agency regulations.

SUMMARY: The Agricultural Marketing Service (AMS) is publishing this plan for the review of its regulations under the Regulatory Flexibility Act (RFA). AMS has included in this plan all regulations that warrant periodic review irrespective of whether specific regulations meet the threshold requirement for mandatory review established by the RFA. The identified rules will be reviewed as indicated during the next ten years.

FOR FURTHER INFORMATION CONTACT: Christine M. Sarcone, Director, Legislative and Regulatory Review Staff, AMS, USDA, P.O. Box 96456, Room 3510-South, Washington, D.C. 20090-6456; telephone: (202) 720-3203; fax: (202) 690-3767.

SUPPLEMENTARY INFORMATION:

Background

Sec. 610 of the RFA (5 U.S.C. 610) requires agencies to review all regulations on a periodic basis that have or will have a significant economic impact on a substantial number of small entities. Because many AMS regulations impact small entities, AMS decided, as a matter of policy, to review certain regulations which although they may not meet the threshold requirement under Sec. 610 of the RFA (5 U.S.C. 610) merit review.

This document updates the original plan which was published on February 18, 1999 (64 FR 8014). Since then, two reviews have been completed and summaries of the results published in the Federal Register—(1) California Olives, (7 CFR part 932), March 27, 2001 (66 FR 16593); and (2) Federal Seed Act Regulations, (7 CFR part 201), March 22, 2001 (66 FR 16015). Copies of these two completed reviews can be obtained from the Legislative and Regulatory Review Staff at the telephone number provided in the FOR FURTHER INFORMATION CONTACT section of this document. In addition, two other reviews have been completed with summaries of the results to be published in the Federal Register in the near future—(1) Watermelon Research and Promotion Program (7 CFR part 1210); and (2) Irish Potatoes Grown in Certain Designated Counties in ID, and Malheur County, OR (7 CFR part 945).

In the 1999 review plan, AMS stated that reviews for the Dairy Promotion Program, Potato Research and Promotion, Egg Research and Promotion, and Pork Promotion, Research and Consumer Information regulations would be conducted in calendar year 2001; however, it was determined that completion of such reviews was not feasible by the established dates, therefore, review of the regulations has been delayed until year 2002. In addition, a request for comments was published in the Federal Register on June 13, 2001, (66 FR 31850) for Almonds Grown in California (7 CFR part 981). However, completion of this review also has been delayed until year 2002.

AMS also stated that it would announce regulations to be reviewed in the semi-annual regulatory agenda which is published in the Federal Register; however, after further consideration, the agency has decided that it would announce the reviews in the Federal Register separate from the semi-annual regulatory agenda. AMS plans now to publish in the year the regulations are scheduled for review a Federal Register document announcing the review. At that time, a contact person will be identified to whom comments may be submitted concerning the review.

The purpose of each review will be to determine whether the rules should be continued without change, or should be amended or rescinded (consistent with the objectives of applicable statutes) to minimize impacts on small businesses. In reviewing its rules the AMS will consider the following factors:

(1) The continued need for the rule;

(2) The nature of complaints or comments from the public concerning the rule;

(3) The complexity of the rule;

(4) The extent to which the rule overlaps, duplicates, or conflicts with other Federal rules and, to the extent feasible, with state and local regulations; and

(5) The length of time since the rule has been evaluated or the degree to which technology, economic conditions, or other factors have changed in the area affected by the rule.

The attached document announces the revised schedule for reviewing the agency's regulations.

Dated: December 27, 2001.
Kenneth C. Clayton,
Acting Administrator, Agricultural Marketing Service.

Agricultural Marketing Service 10-Year Review Plan for Regulations Identified for Section 610 Review Regulatory Flexibility Act
CFR part & authority | AMS program/regulation | Year implemented | Year for review
7 part 46; 7 U.S.C. 499a-499t | Perishable Agricultural Commodities Act, 1930 | *1930 | 2008
7 part 110; 7 U.S.C. 136i-1 | Pesticide Recordkeeping | 1993 | 2003
7 part 205; 7 U.S.C. 6501-6522 | National Organic Program | 2000 | 2010
7 part 905; 7 U.S.C. 601-674 | Oranges, Grapefruit, Tangerines, and Tangelos Grown in Florida | 1939 | 2007
7 part 916; 7 U.S.C. 601-674 | Nectarines Grown in California | 1958 | 2003
7 part 917; 7 U.S.C. 601-674 | Fresh Pears and Peaches Grown in California | 1939 | 2003
7 part 923; 7 U.S.C. 601-674 | Sweet Cherries Grown in Designated Counties in Washington | 1957 | 2007
7 part 925; 7 U.S.C. 601-674 | Grapes Grown in a Designated Area of Southeastern California | 1980 | 2006
7 part 927; 7 U.S.C. 601-674 | Winter Pears Grown in Oregon and Washington | 1939 | 2003
7 part 929; 7 U.S.C. 601-674 | Cranberries Grown in States of Massachusetts, Rhode Island, etc. | 1962 | 2003
7 Part 930; 7 U.S.C. 601-674 | Tart Cherries Grown in MI, NY, PA, OR, UT, WA & WI | 1996 | 2006
7 part 948; 7 U.S.C. 601-674 | Irish Potatoes Grown in Colorado | 1941 | 2006
7 part 966; 7 U.S.C. 601-674 | Tomatoes Grown in Florida | 1955 | 2002
7 part 981; 7 U.S.C. 601-674 | Almonds Grown in California | 1950 | 2002
7 part 984; 7 U.S.C. 601-674 | Walnuts Grown in California | 1948 | 2008
7 part 989; 7 U.S.C. 601-674 | Raisins Produced from Grapes Grown in California | 1949 | 2004
7 part 993; 7 U.S.C. 601-674 | Dried Prunes Produced in California | 1949 | 2002
7 part 998; 7 U.S.C. 601-674 | Marketing Agreement Regulating the Quality of Domestically Produced Peanuts | 1965 | 2005
7 Parts 1000-1139; 7 U.S.C. 601-674 | Federal Milk Marketing Orders | 1999 | 2009
7 part 1150; 7 U.S.C. 4501-4514 | Dairy Promotion Program | 1984 | 2002
7 part 1160; 7 U.S.C. 6401-6417 | Fluid Milk Promotion Program | 1993 | 2003
7 part 1205; 7 U.S.C. 2101-2118 | Cotton Research and Promotion | 1996 | 2002
7 part 1207; 7 U.S.C. 2611-2627 | Potato Research and Promotion | 1972 | 2002
7 part 1209; 7 U.S.C. 6101-6112 | Mushroom Promotion, Research and Consumer Information Order | 1993 | 2004
7 part 1215; 7 U.S.C. 7481-7491 | Popcorn Promotion, Research and Consumer Information | 1997 | 2007
7 part 1216; 7 U.S.C. 7401-7425 | Peanut Promotion, Research, and Information Order | 1999 | 2009
7 part 1218; 7 U.S.C. 7401-7425 | Blueberry Promotion, Research, and Information Order | 2000 | 2010
7 part 1220; 7 U.S.C. 6301-6311 | Soybean Promotion, Research and Consumer Information | 1991 | 2003
7 part 1230; 7 U.S.C. 4801-4819 | Pork Promotion, Research, and Consumer Information | 1986 | 2002
7 part 1240; 7 U.S.C. 4601-4612 | Honey Research, Promotion, and Consumer Information Order | 1987 | 2002
7 part 1250; 7 U.S.C. 2701-2718 | Egg Research and Promotion | 1976 | 2002
7 part 1260; 7 U.S.C. 2901-2911 | Beef Promotion and Research | 1986 | 2003
*Regs. Amended 1997.

[FR Doc. 02-241 Filed 1-3-02; 8:45 am]

BILLING CODE 3410-02-P